DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 24, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: Return of Excise Taxes Related to Employee Benefit Plans.

OMB Control Number: 1545-0575.

Type of Review: Extension without change of a currently approved collection.

Abstract: Code sections 4971, 4972, 4973(a)(3), 4975, 4976, 4977, 4978, 4978A, 4978B, 4979, 4979A and 4980 impose various excise taxes in connection with employee benefit plans. Form 5330 is used to compute and collect these taxes.

Form: Form 5330.

Affected Public: Businesses or other for-profits.

Estimated Total Annual Burden Hours: 540, 145.

Title: Information Reporting by Passport Applicants (REG-208274-86).

OMB Control Number: 1545-1359.

Type of Review: Revision of a currently approved collection.

Abstract: This document contains regulations that provide information reporting rules for certain passport applicants. The information provided by passport applicants will be used by the IRS for tax compliance purposes.

Forms: None.

Affected Public: Individuals or Households.

Estimated Total Annual Burden Hours: 1,213,354.

Title: Return of U.S. Persons With Respect to Certain Foreign Partnerships.

OMB Control Number: 1545-1668.

Type of Review: Revision of a currently approved collection.

Abstract: The Taxpayer Relief Act of 1997 significantly modified the information reporting requirements with respect to foreign partnerships. The Act made the following three changes (1) expanded section 6038B to require U.S. persons transferring property to foreign partnerships in certain transactions to report those transfers; (2) expanded section 6038 to require certain U.S. Partners of controlled foreign partnerships to report information about the partnerships; and (3) modified the reporting required under section 6046A with respect to acquisitions and dispositions of foreign partnership interests. Form 8838-P is used to extend the statute of limitations for U.S. persons who transfers appreciated property to partnerships with foreign partners related to the transferor. The form is filed when the transferor makes a gain recognition agreement. This agreement allows the transferor to defer the payment of tax on the transfer. The IRS uses Form 8838-P so that it may assess tax against the transferor after the expiration of the original statute of limitations.

Forms: 8865, Sch P (Form 8865), Sch O (Form 8865), Sch K-1 (Form 8865), Form 8838-P.

Affected Public: Businesses or other for profits, Individuals or Households.

Estimated Total Annual Burden Hours: 254,084.

Title: Form 13818—Limited Payability Claim Against the United States For Proceeds of an Internal Revenue Refund Check.

OMB Control Number: 1545-2024.

Type of Review: Revision of a currently approved collection.

Abstract: This form is used by taxpayers for completing a claim against the United States for the proceeds of an Internal Revenue refund check.

Form: Form 13818.

Affected Public: Individuals or Households.

Estimated Total Annual Burden Hours: 6,000.

Title: Paid Preparer Tax Identification Number (PTIN) Application and Renewal.

OMB Control Number: 1545-2190.

Type of Review: Extension without change of a currently approved collection.

Abstract: Paid tax return preparers are required to obtain a preparer tax identification number (PTIN) by completing Form W-12, IRS Paid Preparer Tax Identification Number (PTIN) Application and Renewal, and to pay the fee required with the application. A third party will administer the PTIN application process. Most applications will be filled out on-line. Form W-12 will be used to collect the information required by § 1.6109-2 and to collect the information the third party needs to administer the PTIN application process.

Form: W-12.

Affected Public: Individuals or Households.

Estimated Total Annual Burden Hours: 1,464,000.

Authority: 44 U.S.C. 3501 et seq.

Dated: October 19, 2017.
Jennifer P. Leonard,
Treasury PRA Clearance Officer.

[FR Doc. 2017-23100 Filed 10-24-17; 8:45 am]

BILLING CODE 4830-01-P